NORTHEAST DAIRY COMPACT COMMISSION

Notice of Meeting

AGENCY: Northeast Dairy Compact Commission.

ACTION: Notice of special meeting.

SUMMARY: The Compact Commission will hold a special meeting to consider matters relating to expiration of Congressional consent to the Northeast Dairy Compact. This meeting will be held in Concord, New Hampshire.

DATES: The meeting will begin at 10:30 a.m. on Friday, September 28, 2001.

ADDRESSES: The meeting will be held at the Legislative Office Building, 33 North State Street, Room 301-303, Concord, NH.

FOR FURTHER INFORMATION CONTACT: Daniel Smith, Executive Director, Northeast Dairy Compact Commission, 64 Main Street, Room 21, Montpelier, VT 05602. Telephone (802) 229-1941.

Authority: 7 U.S.C. 7256.

Dated: September 20, 2001.
Daniel Smith,
Executive Director.

[FR Doc. 01-24154 Filed 9-26-01; 8:45 am]

BILLING CODE 1650-01-P